DEPARTMENT OF THE INTERIOR

Geological Survey

[USGS GX12EE000101000]

Agency Information Collection Activities: Submitted for Office of Management and Budget (OMB) Review; Comment Request

AGENCY: U.S. Geological Survey (USGS), Interior.

ACTION: Notice of an extension of an existing information collection (1028-0084).

SUMMARY: To comply with the Paperwork Reduction Act of 1995 (PRA), the U.S. Geological Survey (USGS) is inviting comments on an information collection request (ICR) that we have sent to the Office of Management and Budget (OMB) for review and approval. The ICR concerns the paperwork requirements for the National Spatial Data Infrastructure, Cooperative Agreements Program (NSDI CAP) and describes the nature of the collection and the estimated burden and cost. As required by the Paperwork Reduction Act (PRA) of 1995, and as part of our continuing efforts to reduce paperwork and respondent burden, we invite the general public and other Federal agencies to take this opportunity to comment on this ICR. This Information Collection is scheduled to expire on January 31, 2012. To submit a proposal for the NSDI CAP, three standard OMB forms and project narrative must be completed and submitted via Grants.gov.

DATES: Submit written comments by December 21, 2011.

ADDRESSES: Please submit comments on this information collection directly to the Office of Management and Budget (OMB) Office of Information and Regulatory Affairs, Attention: Desk Officer for the Department of Interior via email [OIRA_DOCKET@omb.eop.gov]; or fax (202) 395-5806; and identify your submission as 1028-0084. Please also submit a copy of your comments to Information Collection Clearance Officer, U.S. Geological Survey, 807 National Center, Reston, VA 20192 (mail); or smbaloch@usgs.gov (email). Please reference Information Collection 1028-0084, NSDI CAP in the subject line.

FOR FURTHER INFORMATION CONTACT: To request additional information concerning this ICR, contact Brigitta Urban-Mathieux, by mail NSDI CAP Coordinator, Federal Geographic Data Committee, U.S. Geological Survey, MS 590 National Center, Reston, VA 20192; by telephone at (703) 648-5175 or by email burbanma@usgs.gov.

SUPPLEMENTARY INFORMATION: Title: National Spatial Data Infrastructure Cooperative Agreements Program (NSDI CAP).

OMB Control Number: 1028-0084.

Abstract: To date, the NSDI CAP awards have created collaborations at all levels of government, developed an understanding of geospatial information in organizations and disciplines new to the NSDI, provided seed money to enable geospatial organizations to participate in the national effort to implement the NSDI, promoted the development of standardized metadata in hundreds of organizations, and funded numerous implementations of OGC Web Mapping Services and Web Feature Services. The program is open to State, local and Tribal governments, academia, commercial, and non-profit organizations and provides small seed grants to initiate sustainable on-going NSDI implementations. The program emphasizes partnerships, collaboration and the leveraging of geospatial resources in achieving its goals. Since the funding level is limited, organizations must compete to be awarded funds. Respondents are submitting proposals to acquire funding for projects to help build the infrastructure necessary for the geospatial data community to effectively discover, access, share, manage, and use digital geographic data. The NSDI consists of the technologies, policies, organizations, and people necessary to promote cost-effective production, and the ready availability and greater utilization of geospatial data among a variety of sectors, disciplines, and communities. Specific NSDI areas of emphasis include: Metadata documentation, clearinghouse establishment, framework development, standards implementation, and building organizational collaboration and cooperation among organizations to leverage of geospatial resources.

This notice concerns the collection of information that is sufficient and relevant to evaluate and select proposals for funding. We will protect information from respondents considered proprietary under the Freedom of Information Act (5 U.S.C. 552) and its implementing regulations (43 CFR Part 2), and under regulations at 30 CFR 250.197, “Data and information to be made available to the public or for limited inspection.” Responses are voluntary. No questions of a “sensitive” nature are asked. We intend to release the project abstracts and primary investigators for awarded/funded projects only.

Frequency of Collection: Annually.

Affected Public: Private Sector; State, Local, and Tribal governments; academia, non-profit organizations.

Respondent Obligation: Voluntary (necessary to receive benefits).

Estimated Number and Description of Respondents: We expect to receive approximately 60 proposals during the grant application process. We anticipate issuing 25 grants per year. The program is open to State, local and Tribal governments, academia, commercial, and non-profit organizations.

Estimated Number of Responses: Approximately 60 applications and 50 reports per year.

Estimated Completion Time per Response: Based on comments received from our consultation, we have adjusted our original burden request by 10 hours from 25 to 35 hours per respondent. We expect to receive approximately 60 applications, taking each applicant approximately 35 hours to complete, totaling 2,100 burden hours. We anticipate awarding an average of 25 grants per year. The 25 award recipients are required to submit 2 reports: an interim 6 months after the start of the project and a final report on or before 90 working days after the expiration of the agreement. We estimate that it will take approximately 5 hours to complete and submit the reports totaling 10 hours. Therefore, the annual burden for report preparation is 250 hours. We estimate that the total burden for this collection will be 2,350 hours.

Annual Burden Hours: 2,350.

Estimated Reporting and Recordkeeping “Non-Hour Cost” Burden: We have not identified any “non-hour cost” burdens associated with this collection of information.

Public Disclosure Statement: The PRA (44 U.S.C. 3501, et seq.) provides that an agency may not conduct or sponsor a collection of information unless it displays a currently valid OMB control number. Until OMB approves a collection of information, you are not obligated to respond.

Comments: To comply with the public consultation process, on July 25, 2011, we published a Federal Register notice (76 FR 44354) announcing our intent to submit this information collection to OMB for approval. In that notice we solicited public comments for 60 days, ending on September 23, 2011. We did not receive any public comments in response to the notice.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: November 3, 2011.
Kevin T. Gallagher,
Associate Director, Core Science Systems.

[FR Doc. 2011-29967 Filed 11-18-11; 8:45 am]

BILLING CODE 4311-AM-P